DEPARTMENT OF ENERGY

Federal Energy Regulatory Commission

Combined Notice of Filings #1

December 29, 2005.

Take notice that the Commission received the following electric rate filings.

Docket Numbers: ER01-2562-004.

Applicants: Competitive Energy Services, LLC.

Description: Competitive Energy Services, LLC submits its revised market-based rate tariff as instructed in Appendix B of the order on updated market power analyses.

Filed Date: 12/21/2005.

Accession Number: 20051227-0188.

Comment Date: 5 p.m. Eastern Time on Wednesday, January 11, 2006.

Docket Numbers: ER05-1502-002.

Applicants: California Independent System Operator.

Description: California Independent System Operator Corp submits its compliance filing to Commission's 11/21/05 Order.

Filed Date: 12/21/2005.

Accession Number: 20051223-0018.

Comment Date: 5 p.m. Eastern Time on Wednesday, January 11, 2006.

Docket Numbers: ER05-938-003.

Applicants: Southern Company Services, Inc.

Description: Southern Company Services, Inc submits the Compliance Refund Report pursuant to the Commission's letter order dated 12/2/05.

Filed Date: 12/21/2005.

Accession Number: 20051223-0007.

Comment Date: 5 p.m. Eastern Time on Wednesday, January 11, 2006.

Docket Numbers: ER06-27-001.

Applicants: Midwest Independent Transmission System Operator, Inc.

Description: Midwest Independent Transmission System Operator, Inc submits proposed revisions to its Open Access Transmission and Energy Markets Tariff, FERC Electric Tariff, Third Revised Volume No. 1 etc.

Filed Date: 12/21/2005.

Accession Number: 20051223-0008.

Comment Date: 5 p.m. Eastern Time on Wednesday, January 11, 2006.

Docket Numbers: ER06-33-000.

Applicants: Pacific Gas & Electric Company.

Description: Pacific Gas & Electric Co submits proposed revisions to Rate Schedule No. 208 for the Reliability Must-Run Service Agreement with CASIO.

Filed Date: 12/21/2005.

Accession Number: 20051227-0249.

Comment Date: 5 p.m. Eastern Time on Wednesday, January 11, 2006.

Docket Numbers: ER06-351-000.

Applicants: Arizona Public Service Company.

Description: Arizona Public Service Co submits amended sheets to the IOA between APS and Gila River which is designated as Service Agreement No. 174 under its FERC Electric Tariff, Volume No. 2 et al.

Filed Date: 12/21/2005.

Accession Number: 20051223-0041.

Comment Date: 5 p.m. Eastern Time on Wednesday, January 11, 2006.

Docket Numbers: ER06-353-000.

Applicants: Duke Energy Corporation.

Description: Duke Energy Corp, on behalf of Duke Electric Transmission submits an executed Network Integration Service Agreement for Network Integration Transmission Service with Piedmont Municipal Power Agency.

Filed Date: 12/21/2005.

Accession Number: 20051223-0016.

Comment Date: 5 p.m. Eastern Time on Wednesday, January 11, 2006.

Docket Numbers: ER06-355-000.

Applicants: South Carolina Electric & Gas Corporation.

Description: South Carolina Electric & Gas Co submits an Open Access Transmission Tariff by including Appendix 7 as an amendment to the OATT's Large Generator Interconnection Procedures etc.

Filed Date: 12/21/2005.

Accession Number: 20051223-0021.

Comment Date: 5 p.m. Eastern Time on Wednesday, January 11, 2006.

Docket Numbers: ER06-356-000.

Applicants: Midwest Independent Transmission System Operator, Inc.

Description: Midwest Independent Transmission System Operator, Inc submits its proposed revisions to the Midwest ISO's Open Access Transmission and Energy Markets Tariff, FERC Electric Tariff, Third Revised Volume No. 1 etc.

Filed Date: 12/21/2005.

Accession Number: 20051223-0022.

Comment Date: 5 p.m. Eastern Time on Wednesday, January 11, 2006.

Docket Numbers: ER06-357-000.

Applicants: Cleco Marketing & Trading LLC.

Description: Cleco Marketing & Trading, LLC submits a notice of termination of its market-based wholesale sales rate schedule, FERC Electric Rate Schedule No. 1.

Filed Date: 12/22/2005.

Accession Number: 20051223-0056.

Comment Date: 5 p.m. Eastern Time on Thursday, January 12, 2006.

Docket Numbers: ER06-358-000.

Applicants: American Electric Power Service Corporation.

Description: American Electric Power Service Corp agent for Kentucky Power Co submits a cost-based formula rate agreement for full requirements electric service ( including Appendices A through D) with the City of Olive Hill, KY.

Filed Date: 12/22/2005.

Accession Number: 20051227-0194.

Comment Date: 5 p.m. Eastern Time on Thursday, January 12, 2006.

Docket Numbers: ER06-359-000.

Applicants: Xcel Energy Operating Companies.

Description: Xcel Energy submits the Fifth Revised Sheet Nos. 48-56 to the Restated Agreement to Coordinate Planning and Operations and Interchange Power and Energy w/ Northern States Power Co.

Filed Date: 12/22/2005.

Accession Number: 20051227-0195.

Comment Date: 5 p.m. Eastern Time on Thursday, January 12, 2006.

Docket Numbers: ER06-360-000.

Applicants: Midwest Independent Transmission System Operator, Inc.

Description: Midwest Independent Transmission System Operator, Inc submits the unexecuted Service Agreement for Sioux Falls Municipal Light & Power Department.

Filed Date: 12/22/2005.

Accession Number: 20051227-0191.

Comment Date: 5 p.m. Eastern Time on Thursday, January 12, 2006.

Docket Numbers: ER06-361-000.

Applicants: Midwest Independent Transmission System Operator, Inc.

Description: Midwest Independent Transmission Operator, Inc submits the unexecuted Service Agreement for Truman Public Utilities.

Filed Date: 12/22/2005.

Accession Number: 20051227-0196.

Comment Date: 5 p.m. Eastern Time on Thursday, January 12, 2006.

Docket Numbers: ER06-362-000.

Applicants: Midwest Independent Transmission System Operator, Inc.

Description: Midwest Independent Transmission System Operator, Inc submits the unexecuted Service Agreement for the University of North Dakota—Facilities.

Filed Date: 12/22/2005.

Accession Number: 20051227-0192.

Comment Date: 5 p.m. Eastern Time on Thursday, January 12, 2006.

Docket Numbers: ER06-363-000.

Applicants: Midwest Independent Transmission System Operator, Inc.

Description: Midwest Independent Transmission System Operator, Inc submits the unexecuted Service Agreement for East Grand Forks Water & Light Department.

Filed Date: 12/22/2005.

Accession Number: 20051227-0193.

Comment Date: 5 p.m. Eastern Time on Thursday, January 12, 2006.

Docket Numbers: ER06-364-000.

Applicants: Trans-Elect NTD Path 15, LLC.

Description: Trans-Elect NTD Path 15, LLC submits First Revised Sheet No. 16 to FERC Electric Tariff, Original Volume No.1.

Filed Date: 12/21/2005.

Accession Number: 20051227-0190.

Comment Date: 5 p.m. Eastern Time on Wednesday, January 11, 2006.

Docket Numbers: ER06-365-000.

Applicants: Entergy Services, Inc.

Description: Entergy Services, Inc as agent for Entergy Operating Companies submits unexecuted Network Operating Agreements etc with City of Conway, Arkansas & the City of West Memphis, Arkansas.

Filed Date: 12/22/2005.

Accession Number: 20051227-0197.

Comment Date: 5 p.m. Eastern Time on Thursday, January 12, 2006.

Docket Numbers: ER06-366-000.

Applicants: Midwest Independent Transmission System Operator, Inc.

Description: Midwest Independent Transmission System Operator, Inc et al submits revisions to Schedule 23 to its Open Access Transmission and Energy Markets Tariff.

Filed Date: 12/22/2005.

Accession Number: 20051227-0189.

Comment Date: 5 p.m. Eastern Time on Thursday, January 12, 2006.

Docket Numbers: ER06-371-000.

Applicants: Avista Corporation.

Description: Avista Corporation submits Rate Schedule FERC No. 227 an Interconnection & Transmission Service Agreement with Public Utility District No. 1 of Chelan County, Washington.

Filed Date: 12/22/2005.

Accession Number: 20051227-0221.

Comment Date: 5 p.m. Eastern Time on Thursday, January 12, 2006.

Docket Numbers: ER06-372-000.

Applicants: Midwest Independent Transmission System Operator, Inc.

Description: Midwest Independent Transmission System Operator, Inc submits an unexecuted Attachment 2—Form of Schedule 23 Service Agreement on behalf of Granite Falls Municipal Utilities.

Filed Date: 12/22/2005.

Accession Number: 20051228-0062.

Comment Date: 5 p.m. Eastern Time on Thursday, January 12, 2006.

Docket Numbers: ER06-373-000.

Applicants: Midwest Independent Transmission System Operator, Inc.

Description: Midwest ISO submits on behalf of East River Electric Power Cooperative unexecuted copies of Attachment 2—Form of Schedule 23 Service Agreement.

Filed Date: 12/22/2005.

Accession Number: 20051228-0064.

Comment Date: 5 p.m. Eastern Time on Thursday, January 12, 2006.

Docket Numbers: ER06-374-000.

Applicants: MidAmerican Energy Company.

Description: MidAmerican Energy Co submits its Open Access Transmission Tariff for compliance with Order 661 and 661-A.

Filed Date: 12/22/2005.

Accession Number: 20051228-0063.

Comment Date: 5 p.m. Eastern Time on Thursday, January 12, 2006.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-55 Filed 1-6-06; 8:45 am]

BILLING CODE 6717-01-P